INTERNATIONAL TRADE COMMISSION

[Investigation No. 731-TA-282 (Fourth Review)]

Petroleum Wax Candles from China

Determination

On the basis of the record ¹ developed in the subject five-year review, the United States International Trade Commission (“Commission”) determines, pursuant to the Tariff Act of 1930, that revocation of the antidumping duty order on petroleum wax candles from China would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted this review on December 1, 2015 (80 FR 75130) and determined on March 7, 2016 that it would conduct an expedited review (81 FR 15122, March 21, 2016).

The Commission made this determination pursuant to section 751(c) of the Tariff Act of 1930 (19 U.S.C. 1675(c)). It completed and filed its determination in this review on May 12, 2016. The views of the Commission are contained in USITC Publication 4610 (May 2016), entitled Petroleum Wax Candles from China: Investigation No. 731-TA-282 (Fourth Review).

By order of the Commission.
Issued: May 12, 2016.
Lisa R. Barton,
Secretary to the Commission.

[FR Doc. 2016-11637 Filed 5-17-16; 8:45 am]

BILLING CODE 7020-02-P